DEPARTMENT OF HEALTH AND HUMAN SERVICES

Administration of Children and Families

[CFDA No.: 93.566, Refugee Assistance—State Administered Programs]

Refugee Resettlement Program: Proposed Notice of Allocations to States of FY 2003 Funds for Refugee Social Services

AGENCY: Office of Refugee Resettlement (ORR), ACF, HHS.

ACTION: Proposed notice of allocations to States of FY 2003 funds for refugee social services.

SUMMARY: This notice establishes the proposed allocations to States of FY 2003 funds for refugee ¹ social services under the Refugee Resettlement Program (RRP). In the final notice, amounts could be adjusted slightly based upon final adjustments in FY 2002 arrivals in some States.

¹ Eligibility for refugee social services include refugees, asylees, Cuban and Haitian entrants, certain Amerasians from Viet Nam who are admitted to the U.S. as immigrants, certain Amerasians from Viet Nam who are U.S. citizens, (45 CFR 400.43), and victims of a severe form of trafficking who receive certification or eligibility letters from ORR. (ORR State Letter #01-13 on the Trafficking Victims Protection Act, dated May 3, 2001). The term “refugee,” used in this notice for convenience, is intended to encompass such additional persons who are eligible to participate in refugee program services.

This notice includes $2 million in a set-aside allocation to support programs promoting marriage education, relationship enhancement, divorce reduction activities, or other activities that promote and sustain healthy marriages. Unlike the FY 2002 healthy families' set-aside that provided for a wide-range of activities to enhance families, the FY 2003 set-aside is available for helping refugee couples who choose marriage for themselves to develop the skills and knowledge to develop and sustain healthy marriages. These set-aside funds are for married and non-married refugee couples, where appropriate.

DATES: Comments on this notice must be received by August 20, 2003.

ADDRESSES: Address written comments, in duplicate, to: Kathy Do, Division of Budget, Policy, and Data Analysis (BPDA), Administration for Children and Families, 370 L'Enfant Promenade, SW., Washington, DC 20447. Delays may occur in mail delivery to Federal offices; therefore, a copy of comments should also be faxed to: (202) 401-0981

FOR FURTHER INFORMATION CONTACT: Kathy Do, Division of Budget, Policy & Data Analysis, (202) 401-4579. Email: kdo@cf.hhs.gov.

SUPPLEMENTARY INFORMATION:

I. Amounts for Allocation

The Office of Refugee Resettlement (ORR) has available $ 150,138,714 in FY 2003 refugee social service funds as part of the FY 2003 Department of Health and Human Services Appropriations Act, Title II of Division G of the Consolidated Appropriations Resolution FY 2003, Pub. L. 108-7.

The FY 2003 Conference Report (Pub. L. 108-10) reads as follows with respect to social services funds:

The conference agreement appropriates $446,724,000 as proposed by H.R. 246 instead of $442,724,000 as proposed by the Senate. Within this amount, $151,121,000 is provided for Social Services, as proposed in H.R. 246. The Senate bill included $147,121,000 for this purpose.

The conferees recognize the importance of continued educational support to schools with a significant proportion of refugee children, consistent with previous support to schools heavily impacted by large concentrations of refugees, and urges the Office of Refugee Resettlement to support these efforts should funding become available in the Social Services or other accounts.

The agreement also includes $19,000,000 for increased support to communities with large concentrations of refugees whose cultural differences make assimilation especially difficult justifying a more intense level and longer duration of Federal assistance.

After the conference agreement, a further .65 percent reduction was imposed before enactment, reducing the amount for social services to $150,138,714.

ORR proposes to use the $150,138,714 appropriated for FY 2003 social services as follows:

• $71,092,907 will be allocated under the 3-year population formula, as set forth in this notice for the purpose of providing employment services and other needed services to refugees.

• $12,545,807 will be awarded as new and continuation social service discretionary grants under new and prior year competitive grant announcements issued separately from this notice.

• $19,000,000 will be awarded to serve communities most heavily affected by recent Cuban and Haitian entrant and refugee arrivals. These funds will be awarded under a separate announcement.

• $26,000,000 will be awarded through discretionary grants for communities with large concentrations of refugees whose cultural differences make assimilation especially difficult thereby justifying a more intense level and longer duration of Federal assistance. A combination of new and continuation awards will be made through new and prior year separate announcements.

• $14,000,000 will be awarded to address the needs of refugees and communities impacted by recent changes in Federal assistance programs relating to welfare reform. Awards will be made through a separate announcement.

• $7,500,000 will be used to continue educational support to schools with a significant proportion of refugee children, consistent with previous support to schools heavily impacted by large concentrations of refugees. Available surplus funds will be used to raise educational support to $15,000,000.

In addition, we are adding $2 million from FY 2001 unexpended refugee funds for allocation to States to fund programs promoting healthy marriages. Through this set-aside, ORR is looking to promote marriage education, relationship enhancement programs, divorce reduction activities, and/or other activities that promote and sustain healthy marriages. Unlike the FY 2002 healthy families' set-aside that provided for a wide range of activities to enhance families, the FY 2003 set-aside is available exclusively for marriage-building or relationship enhancement activities.

Refugee Social Service Funds

The FY 2003 population figures for the formula social services allocation include refugees, Cuban/Haitian entrants, Amerasians from Viet Nam, and victims of severe forms of trafficking. (A State must, however, have an approved State plan for the Cuban/Haitian Entrant Program or indicate in its refugee program State plan that Cuban/Haitian entrants will be served in order to use funds on behalf of entrants as well as refugees). Data on trafficking victims are taken from the total number of trafficking victim's certification letters issued by ORR. States that have served asylees during the past three years may submit to ORR the asylee-related information listed at the end of this section in order to have their service population estimate adjusted to include those asylees whose asylum was granted within the 36 month period ending September 30, 2002.

The Director is proposing to allocate $71,092,907 to States on the basis of each State's proportion of the national population of refugees who have been in the U.S. three years or less as of October 1, 2002 (including a floor amount for States that have small refugee populations).

The use of the 3-year population base in the allocation formula is required by section 412(c)(1)(B) of the Immigration and Nationality Act (INA) which states that “funds available for a fiscal year for grants and contracts [for social services] * * * shall be allocated among the States based on the total number of refugees (including children and adults) who arrived in the United States not more than 36 months before the beginning of such fiscal year and who are actually residing in each State (taking into account secondary migration) as of the beginning of the fiscal year.”

As established in the FY 1992 social services notice published in the Federal Register on August 29, 1991, section I, “Allocation Amounts” (56 FR 42745), a variable floor amount for States which have small refugee populations is calculated as follows: If the application of the regular allocation formula yields less than $100,000, then—

(1) A base amount of $75,000 is provided for a State with a population of 50 or fewer refugees who have been in the U.S. 3 years or less; and

(2) For a State with more than 50 refugees who have been in the U.S. 3 years or less: (a) A floor has been calculated consisting of $50,000 plus the regular per capita allocation for refugees above 50 up to a total of $100,000 (in other words, the maximum under the floor formula is $100,000); (b) if this calculation has yielded less than $75,000, a base amount of $75,000 is provided for the State.

Population To Be Served and Allowable Services

Eligibility for refugee social services includes persons who meet all requirements of 45 CFR 400.43 (see Footnote 1 for service populations). In addition, persons granted asylum are eligible for refugee benefits and services from the date that asylum was granted (See ORR State Letter No. 00-12, effective June 15, 2000). Victims of a severe form of trafficking who have received a certification or eligibility letter from ORR are eligible from the date on the certification letter (See ORR State Letter No. 01-13, May 3, 2001, as modified by ORR State Letter No. 02-01, January 4, 2002).

Services to refugees must be provided in accordance with the rules of 45 CFR part 400 Subpart I—Refugee Social Services. Although the allocation formula is based on the 3-year refugee population, States may provide services to refugees who have been in the country up to 60 months (5 years), with the exception of referral and interpreter services and citizenship and naturalization preparation services for which there is no time limitation (45 CFR 400 152(b)).

Under waiver authority at 45 CFR 400.300, the Director of ORR may issue a waiver of the limitation on eligibility for social services contained in 45 CFR 400.152(b). There is no blanket waiver of this provision in effect for FY 2003. States may apply for a waiver of 45 CFR 400.152(b) in writing from the Director of ORR. Each waiver request will be reviewed based on supporting data and information provided. The Director of ORR will approve or disapprove each waiver request as expeditiously as possible.

Allowable social services are those indicated in 45 CFR 400.154 and 400.155. Additional services not included in these sections that the State may wish to provide must be submitted to and approved by the Director of ORR as required under 45 CFR 400.155(h).

The Administration for Children and Families (ACF) is currently supporting several initiatives that promote and encourage healthy marriages and strengthen families. The $2 million set-aside allocation reflects ORR's participation in these initiatives as they relate to supporting healthy marriages and strengthening refugee families. The cultures of most refugee populations are built upon successful and stable family life. ORR believes that refugee married and non-married couples face unique difficulties because of their flight from persecution and long periods of insecurity and that marriage education is social services that can help refugees cope with these difficulties. ORR also believes that there are benefits to marriage that extend to children, adults, and to all society. Thus, ORR is committed to promoting policies and programs that help strengthen marriage as an institution and help refugee parents raise their children in positive and healthy environments.

Many refugee families have endured persecution or torture, trauma, abrupt flight from war, and separation from, or death of, friends and family members. Furthermore, the relationships in refugee families may become strained before arrival because of suffering and deprivation endemic to the refugee condition. Refugees in the U.S. face many challenges. The pressure of their new American environment may weaken the strong, positive family relationships that refugees have brought with them to the United States.

Family relationships may undergo strain and transformation when refugees resettle in the U.S. Strong authoritarian and sometimes patriarchal family structures may provoke conflicts when members take on new roles as they adapt to American culture. For example, school/parent relationships may differ from those in their home countries and may produce miscommunication and tension; refugee parents may have concerns or object to the range of freedom American youth are afforded; and the physical disciplinary practices between a husband and wife or between parents and children may differ from what is the norm or legal in the U.S. The low wages of entry-level jobs may force both adults to work outside the home, thereby disrupting traditional roles. Typically, low incomes force refugee households to locate in neighborhoods with high crime rates. Poor public transportation adds to time spent away from family members and complicates efforts to access services and participate in community activities. The resulting strain from these difficulties may damage refugee marriages, families, and communities.

Marriage education can help refugee couples strengthen and adjust relationship skills and help them cope with the difficulties of their new American environment with the result of improving the quality of family life. Along with the skills that enable couples to communicate more effectively, manage conflict and work together as a team, marriage education can also teach the benefits that can be obtained from identifying future challenges in their relationships so that these challenges can be successfully negotiated when they arise.

Research reveals that the benefits of healthy marriages are particularly beneficial for children. On average, children raised by parents in healthy marriages are less likely to fail at school, suffer an emotional or behavioral problem requiring psychiatric treatment, be victims of child abuse and neglect, get into trouble with the law, use illicit drugs, smoke cigarettes, abuse alcohol, engage in early and promiscuous sexual activity, grow up in poverty, or attempt suicide. On average children raised by parents in healthy marriages are more likely to have a higher sense of self-esteem, form healthy marriages when they marry, attend college, and are physically healthier.

In summary, under this set-aside ORR seeks to provide opportunities for states to offer to refugees, entrants, asylees, Amerasians, and victims of trafficking programs for strengthening marital and parenting skills within healthy and supportive relationships. ORR also seeks to expand understanding of the refugees' marriage and family difficulties in the resettlement experience and the factors that contribute to successfully meeting the challenges to the marriage relationship. If the issues faced by refugee families are addressed early through marriage education, the problems they encounter may be reduced or prevented and refugee families can work towards achieving the bright future they seek in the U.S.

Services to be rendered should be, to the extent possible, culturally and linguistically compatible to the refugee populations. Permissible marriage promotion activities to ORR-eligible populations include the following:

• Offering marriage education, marriage skills, and relationship skills programs

• Offering marriage education, marriage skills, and relationship skills programs that may include parenting skills, financial management, conflict resolution, and job and career advancement for non-married pregnant women and non-married expectant fathers.

• Offering pre-marital education and marriage skills training or workshops for engaged couples and for couples or individuals interested in marriage.

• Providing marriage enhancement and marriage skills training programs for married couples.

• Creating divorce reduction programs that teach relationship skills.

• Training program staff in why marriage matters, what to expect in marriage, the knowledge and skills necessary to form and sustain a healthy marriage, and examples of marriage education programs and resources.

• Training program participants and clients in why marriage matters, what to expect in marriage, and the knowledge and skills to make a healthy marriage a reality.

• Training qualified participants to be marriage program leaders, facilitators and mentors.

• Creating marriage mentoring programs that use married couples as role models and mentors in at-risk communities.

• Training experienced couples to be mentors as a strategy to assist newly married couples, new parents, stepfamilies or other couples facing special challenges.

• Providing vouchers for registration and materials to program staff and participants who attend marriage education activities. For example, a young woman or man considering marriage could be given vouchers to take a premarital inventory and a marriage education class, workshop, or weekend seminar. Similarly a newlywed couple, expecting their first child, could be given vouchers to attend a marriage education program.

• Providing vouchers for mediation services, marital counseling, or marriage education programs designed for those having serious marital problems, prior to separation or divorce.

• Establishing a resource center or library of books and videos on marriage for staff and clients at program service center offices.

• Developing and using a referral list of local marriage education programs and resources.

• Establishing institutional partnerships and collaboration networks with community mental health agencies, courts, local colleges and universities or the USDA's Extension Service regarding marriage education.

• Sponsoring training events on marriage education for local agencies that serve refugees.

• Hosting events for unmarried couples and weekly or monthly couples' nights with specific activities to encourage participation of couples. Provide child care if possible.

• Hosting a couples' night on a quarterly basis to celebrate marriage anniversaries and to provide brief educational activities that sustain healthy marriages.

• Including a marriage component in parenting programs.

• Gathering baseline data, establishing performance objectives and measures, and evaluating marriage education program activities.

• Providing marital health assessment quizzes and questionnaires with appropriate referrals when warranted.

• Using a marriage protocol to ask about the marital relationship in addition to parenting and other family relationships during intake, assessment, or follow-up interviews.

• Providing programs that help refugee teenagers prepare for healthy dating relationships, develop relationship skills, learn budgeting, and learn the value of marriage.

ORR has assembled a program guide entitled “Web-based Program Planning for Healthy Marriages Grants”, which explains marriage education more fully and provides reference material useful for program planners. This guide is available on the ORR Web site under the Programs section at: (http://www.acf.hhs.gov/programs/orr/programs/marriagegrants.htm).

The organizations funded by the set-aside amount are expected to have ties to the ethnic communities they serve and to conduct outreach into the community to identify refugee families in need of services. We strongly encourage States to fund, to the extent possible, Mutual Assistance Associations (MAAs), ethnic community-based organizations, and indigenous faith-based organizations with refugee experience to provide family support, outreach, education, orientation, and counseling. ORR defines an MAA as an organization with the following qualifications: (a) The organization is legally incorporated as a nonprofit organization; and (b) not less than 51 percent of the composition of the Board of Directors or governing board of the mutual assistance association is comprised of refugees or former refugees, including both refugee men and women.

States wishing to participate in these marriage enhancing programs must notify ORR within 30 days of the publication date of this notice that they will use the set-aside funds exclusively for the relationship skill-building and marriage enhancement activities described above. States that fail to notify ORR by that date of their intention to establish healthy marriage programs are not eligible the set-aside. Funds listed in the accompanying table for States that do not notify ORR that they will establish marriage enhancement programs will be made available to the States that are willing to establish such programs.

To be eligible for the Healthy Marriage Set-aside funds, States should notify ORR of their intention to use the set-aside funds exclusively to establish healthy marriage program through a brief letter or by E-mail. Correspondence should be directed to Loren Bussert, Division of Budget, Policy, and Data Analysis (DBPDA), Office of Refugee Resettlement, 370 L'Enfant Promenade SW., Washington, DC 20447; or by E-mail at L.Bussert@acf.hhs.gov.

Service Priorities

In accordance with in 45 CFR 400.147, States are required to provide social services to refugees in the following order of priority, except in certain individual extreme circumstances: (a) All newly arriving refugees during their first year in the U.S. who apply for services; (b) refugees who are receiving cash assistance; (c) unemployed refugees who are not receiving cash assistance; and (d) employed refugees in need of services to retain employment or to attain economic independence. In order for refugees to move quickly off Temporary Assistance for Needy Families (TANF), States should, to the extent possible, ensure that all newly arriving refugees receive refugee-specific services designed to address the employment barriers that refugees typically face.

ORR encourages States to re-examine the range of services they currently offer to refugees. Those States that have had success in helping refugees achieve early employment may find it to be a good time to expand beyond provision of basic employment services and address the broader needs that refugees have in order to enhance their ability to maintain financial security and to successfully integrate into the community. Other States may need to reassess the delivery of employment services in light of local economic conditions and develop new strategies to better serve the newly arriving refugee groups.

States should also be aware that ORR will make social services formula funds available to pay for social services that are provided to refugees who participate in Wilson/Fish projects which can be administered by public or private non-profit agencies, including community-based organizations. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate standing notice in the Federal Register with respect to applications for such projects (64 FR 19793 (April 22, 1999).

States are encouraged to consider eligible sub-recipients for formula social service funds to include public or private non-profit agencies including, faith-based, refugee, or community organizations.

As stated earlier, to be eligible for the Healthy Marriage Set-aside, States should notify ORR within 30 days of publication of this notice of proposed allocations through a brief assurance statement in writing or by E-mail that they will use the set-aside funds exclusively for the relationship skills-building and marriage enhancement activities. States that use the set-aside funds will be expected to report on the activities conducted with these funds in the narrative section of the Quarterly Progress Report (QPR).

States that fail to notify ORR within 30 days of publication of this proposed notice of their intention to establish healthy marriage programs are not eligible for the set-aside. Funds listed in the accompanying table for States that do not notify ORR that they will establish marriage enhancement programs will be made available through reallocations to the States that are willing to establish such programs in the Final Notice and distributed in the fourth quarter social services formula awards.

II. (Reserved for Discussion in the Final Notice of Submitted Comments in Response to the Proposed Notice)

III. Allocation Formulas

Of the funds available for FY 2003 for social services, $71,092,907 is proposed to be allocated to States in accordance with the formula specified in A. below.

A. A State's allowable formula allocation is calculated as follows:

1. The total amount of funds determined by the Director to be available for this purpose; divided by—

2. The total number of refugees, Cuban/Haitian entrants, parolees, and Amerasians from Viet Nam, as shown by the ORR Refugee Data System, and victims of severe forms of trafficking as shown by the certification and eligibility letters issued by ORR, who arrived in the United States not more than 3 years prior to the beginning of the fiscal year for which the funds are appropriated. The resulting per capita amount is multiplied by—

3. The number of persons in item 2, above, in the State as of October 1, 2002, adjusted for estimated secondary migration.

The calculation above yields the formula allocation for each State. Minimum allocations for small States are taken into account.

IV. Basis of Population Estimates

The population estimates for the proposed allocation of funds in FY 2003 for the formula social service allocation are based on data on refugee arrivals from the ORR Refugee Arrivals Data System, adjusted as of October 1, 2002, for estimated secondary migration. The data base includes refugees of all nationalities, Amerasians from Viet Nam, and Cuban and Haitian entrants. Data on trafficking victims are taken from the total number of trafficking victims' certification and eligibility letters issued by ORR.

For Fiscal Year 2003, ORR's formula social service allocations for the States are based on the numbers of refugees, Amerasians, entrants and victims of severe forms of trafficking. The numbers are based upon the arrivals during the preceding three fiscal years: 2000, 2001, and 2002.

The estimates of secondary migration are based on data submitted by all participating States on Form ORR-11 on secondary migrants who have resided in the U.S. for 36 months or less, as of September 30, 2002. The total migration reported by each State is summed by ORR, yielding in- and out-migration figures and a net migration figure for each State. The net migration figure is applied to the State's total arrival figure, resulting in a revised ORR population estimate.

ORR estimates are developed separately for refugees and entrants and then combined into a total estimated 3-year refugee/entrant population for each State. Eligible Amerasians are included in the refugee figures. Havana parolees (HP's) are enumerated in a separate column in Table 1, below, because they are tabulated separately from other entrants. Havana parolee arrivals for all States are based on actual data.

Table 1 (attached) shows the estimated 3-year populations, as of October 1, 2002, of refugees (col. 1), entrants (col. 2), Havana parolees (col. 3), trafficking victims (col. 4), total population, (col. 5), the proposed formula amounts which the population estimates yield (col. 6), the proposed total allocation (col. 7), the proposed amount of set-aside (col. 8), and the proposed final allocation by states (col. 9).

If a State does not agree with ORR's population estimate and wishes ORR to reconsider its numbers, it should submit written evidence to ORR, including a list of refugees identified by name, alien number, date of birth, and date of arrival. Listings of refugees who are not identified by their alien number will not be considered. Such evidence should be submitted separately from comments on the proposed allocation formula no later than 30 days from the date of publication of this notice and should be sent via overnight mail to: Loren Bussert, Division of Budget, Policy and Data Analysis, Office of Refugee Resettlement, 370 L'Enfant Promenade, SW., Washington, DC 20447, Telephone: (202) 401-4732, or as an Excel spreadsheet or other compatible spreadsheet format as an email attachment to: lbussert@acf.hhs.gov.

States which have served asylees during the past three years also may submit the following information in order to have their population estimate adjusted to include those asylees whose asylum was granted within the 36 month period ending September 30, 2002: (1) Alien number, (2) date of birth, and, (3) the date asylum was granted.

A State which has served a victim of a severe form of trafficking who the State believes was residing in a different State at the time that the ORR certification/eligibility letter was issued, should submit the following information in order to have their population estimate adjusted to include these trafficking victims: (1) Alien number, if available; (2) date of birth; (3) certification letter number and, (4) date on certification letter. Victims of a severe form of trafficking who have received a certification or eligibility letter are eligible to the same extent as refugees for benefits and services.

Please submit the above data on asylees and trafficking victims served on separate Excel spreadsheets as an email attachment within 30 days of the publication date of this notice to: lbussert@acf.hhs.gov.

V. Proposed Allocation Amounts

Funding subsequent to the publication of this notice will be contingent upon the submission and approval of a State annual services plan that is developed on the basis of a local consultative process, as required by 45 CFR 400.11(b)(2) in the ORR regulations.

Table 1, attached, represents the proposed allocation for refugee social services in FY 2003.

VI. Paperwork Reduction Act

This notice does not create any reporting or recordkeeping requirements requiring OMB clearance.

Dated: July 14, 2003.
Nguyen Van Hanh,
Director, Office of Refugee Resettlement.

FY 2003 Proposed Social Services Formula Notice
Table 1.—Estimated Three-Year Refugee/Entrant/Parolee/Trafficking Victim Populations of States Participating in the Refugee Resettlement Program and Estimated Social Service Formula Amounts and Allocations for FY 2003
State | Refugees ¹ | Entrants | Havana parolees ² | Trafficking victims ³ | Total population | Final formula amount | Final allocation | $2 million set-aside | Total final allocation
| (1) | (2) | (3) | (4) | (5) | (6) | (7) | (8) | (9)
Alabama | 209 | 1 | 25 | — | 235 | $75,261 | $100,000 | $5,000 | 105,000
Alaska ⁴ | 84 | 0 | 0 | 7 | 91 | 29,144 | 75,000 | 5,000 | 80,000
Arizona | 5,061 | 419 | 2 | — | 5,482 | 1,755,664 | 1,755,664 | 48,657 | 1,804,321
Arkansas | 8 | 9 | 0 | — | 17 | 5,444 | 75,000 | 5,000 | 80,000
California ⁴ | 22,046 | 58 | 125 | 57 | 22,286 | 7,137,310 | 7,137,310 | 197,806 | 7,335,116
Colorado ⁴ | 2,589 | 4 | 6 | 5 | 2,604 | 833,957 | 833,957 | 23,113 | 857,070
Connecticut | 2,798 | 26 | 22 | — | 2,846 | 911,459 | 911,459 | 25,261 | 936,720
Delaware | 154 | 8 | 0 | — | 162 | 51,882 | 85,869 | 5,000 | 90,869
Dist. of Columbia | 88 | 3 | 3 | 1 | 95 | 30,425 | 75,000 | 5,000 | 80,000
Florida | 12,224 | 13,677 | 29,686 | 23 | 55,610 | 17,809,649 | 17,809,649 | 493,586 | 18,303,235
Georgia | 6,508 | 31 | 119 | 3 | 6,661 | 2,133,251 | 2,133,251 | 59,122 | 2,192,373
Hawaii | 15 | 0 | 0 | 42 | 57 | 18,255 | 75,000 | 5,000 | 80,000
Idaho ⁴ | 1,459 | 3 | 3 | — | 1,465 | 469,181 | 469,181 | 13,003 | 482,184
Illinois | 6,255 | 15 | 92 | 2 | 6,364 | 2,038,134 | 2,038,134 | 56,486 | 2,094,620
Indiana | 1,195 | 8 | 13 | — | 1,216 | 389,436 | 389,436 | 10,793 | 400,229
Iowa | 3,215 | 0 | 0 | — | 3,215 | 1,029,635 | 1,029,635 | 28,536 | 1,058,171
Kansas | 419 | 5 | 13 | 1 | 438 | 140,274 | 140,274 | 3,888 | 144,162
Kentucky ⁴ | 2,232 | 1,052 | 7 | — | 3,291 | 1,053,975 | 1,053,975 | 29,210 | 1,083,185
Louisiana | 583 | 115 | 44 | — | 742 | 237,633 | 237,633 | 6,586 | 244,219
Maine | 1,655 | 0 | 0 | — | 1,655 | 530,030 | 530,030 | 14,690 | 544,720
Maryland | 2,929 | 7 | 16 | 4 | 2,956 | 946,688 | 946,688 | 26,237 | 972,925
Massachusetts ⁴ | 4,350 | 163 | 18 | 1 | 4,532 | 1,451,418 | 1,451,418 | 40,225 | 1,491,643
Michigan | 5,322 | 796 | 31 | 5 | 6,154 | 1,970,879 | 1,970,879 | 54,622 | 2,025,501
Minnesota | 8,755 | 6 | 6 | 4 | 8,771 | 2,808,999 | 2,808,999 | 77,850 | 2,886,849
Mississippi | 121 | 5 | 7 | 2 | 135 | 43,235 | 77,222 | 5,000 | 82,222
Missouri | 5,926 | 26 | 19 | — | 5,971 | 1,912,271 | 1,912,271 | 52,998 | 1,965,269
Montana | 9 | 0 | 4 | — | 13 | 4,163 | 75,000 | 5,000 | 80,000
Nebraska | 1,315 | 2 | 0 | — | 1,317 | 421,782 | 421,782 | 11,689 | 433,471
Nevada ⁴ | 923 | 622 | 36 | 1 | 1,582 | 506,651 | 506,651 | 14,042 | 520,693
New Hampshire | 1,331 | 0 | 1 | 2 | 1,334 | 427,227 | 427,227 | 11,840 | 439,067
New Jersey | 2,294 | 338 | 485 | 5 | 3,122 | 999,851 | 999,851 | 27,710 | 1,027,561
New Mexico | 314 | 299 | 2 | — | 615 | 196,960 | 196,960 | 5,459 | 202,419
New York | 14,432 | 1,107 | 151 | 10 | 15,700 | 5,028,079 | 5,028,079 | 139,351 | 5,167,430
North Carolina | 3,431 | 25 | 58 | 1 | 3,515 | 1,125,713 | 1,125,713 | 31,199 | 1,156,912
North Dakota ⁴ | 875 | 0 | 0 | — | 875 | 280,227 | 280,227 | 7,766 | 287,993
Ohio | 5,117 | 3 | 4 | 2 | 5,126 | 1,641,652 | 1,641,652 | 45,498 | 1,687,150
Oklahoma | 283 | 0 | 2 | — | 285 | 91,274 | 100,000 | 5,000 | 105,000
Oregon | 3,204 | 421 | 2 | — | 3,627 | 1,161,582 | 1,161,582 | 32,193 | 1,193,775
Pennsylvania | 5,713 | 383 | 44 | 26 | 6,166 | 1,974,722 | 1,974,722 | 54,728 | 2,029,450
Rhode Island | 639 | 4 | 5 | — | 648 | 207,528 | 207,528 | 5,752 | 213,280
South Carolina | 199 | 0 | 21 | — | 220 | 70,457 | 100,000 | 5,000 | 105,000
South Dakota ⁴ | 971 | 0 | 0 | — | 971 | 310,972 | 310,972 | 8,618 | 319,590
Tennessee | 1,933 | 8 | 50 | — | 1,991 | 637,637 | 637,637 | 17,672 | 655,309
Texas | 7,996 | 957 | 104 | 69 | 9,126 | 2,922,691 | 2,922,691 | 81,001 | 3,003,692
Utah | 2,220 | 5 | 0 | — | 2,225 | 712,578 | 712,578 | 19,749 | 732,327
Vermont | 587 | 0 | 0 | — | 587 | 187,993 | 187,993 | 5,210 | 193,203
Virginia | 3,867 | 130 | 41 | 13 | 4,051 | 1,297,373 | 1,297,373 | 35,956 | 1,333,329
Washington | 12,765 | 0 | 9 | 11 | 12,785 | 4,094,522 | 4,094,522 | 113,478 | 4,208,000
West Virginia | 2 | 0 | 0 | — | 2 | 641 | 75,000 | 5,000 | 80,000
Wisconsin | 1,503 | 4 | 5 | — | 1,512 | 484,233 | 484,233 | 13,420 | 497,653
Wyoming ⁵ | — | — | — | — | — | — | — | — | —
Total | 168,123 | 20,745 | 31,281 | 297 | 220,446 | 70,599,997 | 71,092,907 | 2,000,000 | 73,092,907
¹ Includes Amerasian immigrants. Adjusted for secondary migration.
² For all years, Havana Parolee arrivals for all States are based on actual data.
³ Includes all victims of a severe form of trafficking since program inception in March, 2001.
⁴ The allocations for Alaska, Colorado, Idaho, Kentucky, Massachusetts, Nevada, North Dakota, South Dakota, Alabama, and for Diego County, California are expected to be awarded to Wilson/Fish projects.
⁵ Wyoming no longer participates in the Refugee Resettlement Program.

[FR Doc. 03-18168 Filed 7-18-03; 8:45 am]

BILLING CODE 4184-01-P